DEPARTMENT OF LABOR

Employment and Training Administration

Native American Employment and Training Council (NAETC)

AGENCY: Employment and Training Administration, U. S. Department of Labor.

ACTION: Notice of Virtual Meeting.

SUMMARY: Notice is hereby given that the NAETC will meet for two days, virtually.

DATES: The meeting will take place over two days, beginning Monday November 9, 2020 and ending Tuesday November 10, 2020. The meetings will begin at 12 p.m. EST and conclude no later than 4 p.m. EST each day. Public statements and requests for special accommodations or to address the Council must be received by November 4, 2020.

ADDRESSES: Information for public attendance at the virtual meeting will be posted at www.dol.gov/agencies/eta/dinap/council several days prior to the meeting date. If problems arise accessing the meeting, please contact Suzie Casal, at (202) 309-8589.

FOR FURTHER INFORMATION CONTACT: Athena R. Brown, Chief, Division of Indian and Native American Programs, Employment and Training Administration, U.S. Department of Labor, Room C-4311, 200 Constitution Avenue NW, Washington, DC 20210. Telephone number (202) 693-3737 (VOICE) (this is not a toll-free number) or email at brown.athena@dol.gov. Ms. Brown is the Designated Federal Official for the NAETC.

SUPPLEMENTARY INFORMATION: Council members and members of the public are encouraged to log into the Adobe Connect platform early to allow for connection issues and troubleshooting.

Security Instructions: Meeting participants should use the link and dial in instructions received in their email confirmation.

The meeting will be open to the public.

Members of the public not present may submit a written statement by Wednesday, November 4, 2020, to be included in the record of the meeting. Statements are to be submitted via email to the attention of Athena R. Brown, Designated Federal Officer (DFO) at brown.athena@dol.gov. Persons who need special accommodations should contact Suzie Casal (202) 309-8589 at least two business days before the meeting. The agenda will include discussion of previous NAETC recommendations; discussion of NAETC's Strategic Plan for Recommendations; updates on the Indian and Native American Program, including Public Law 102-477, as amended; potential recommendations for training and technical assistance; and subject matter experts from National Congress of American Indians. A detailed agenda will be available at www.dol.gov/agencies/eta/dinap/council shortly before the meeting commences. The Council will open the floor for public comment. The first opportunity for public comment is expected to be at 3:00 p.m. EST on November 10, 2020; however, that time may change at the NAETC chair's discretion.

John Pallasch,
Assistant Secretary for Employment and Training.

[FR Doc. 2020-24038 Filed 10-27-20; 11:15 am]

BILLING CODE 4510-FN-P